DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 38819-21, dated July 6, 2010) is amended to establish the substructure for the Office of Surveillance, Epidemiology and Laboratory Services, Centers for Disease Control and Prevention.

Section C-B, Organization and Functions, is hereby amended as follows: After the title of Office of Surveillance, Epidemiology and Laboratory Services (CP), insert the following:

Office of Surveillance, Epidemiology and Laboratory Services (CP). The primary mission for the Office of Surveillance, Epidemiology and Laboratory Services (OSELS) is to provide scientific service, expertise, skills, and tools in support of CDC's national efforts to promote health; prevent disease, injury and disability; and prepare for emerging health threats.

Office of the Director (CPA). (1) Manages, directs, coordinates, and evaluates the activities of the OSELS; (2) develops goals and objectives and provides leadership, policy formation, scientific oversight, and guidance in program planning and development; (3) develops strategic planning and briefing materials; (4) reviews and evaluates programmatic data to identify options for enhancing program effectiveness; (5) coordinates activities related to long- and short-range health communications plans; (6) coordinates OSELS responses for PART, GPRA, HP2010, and HHS-wide objectives; (7) provides and coordinates business management activities for OSELS; (8) serves as primary liaison with the Office of State, Tribal, Local, and Territorial Support relating to OSELS activities at the State and local levels; and (9) collaborates, as appropriate, with other CDC Centers/Institute/Offices (CIOs), other HHS agencies, and other Federal agencies.

Business Management Office (CPA1). (1) Provides leadership, oversight, and guidance in the management and operations of OSELS program offices and divisions; (2) plans, coordinates, and provides administrative management support, advice, and guidance to program offices and divisions, involving the areas of fiscal management, procurement, property management, personnel, travel, and other administrative services; (3) coordinates the development of OSELS's annual budget request; (4) conducts management analyses to ensure optimal utilization of resources and accomplishment of program objectives; (5) plans, allocates, and monitors program resources; (6) maintains liaison and collaborates with other CDC components and external organizations in support of operations; (7) works closely with other Federal agencies involved with program interagency agreements; (8) coordinates requirements relating to procurement, grants, cooperative agreements, materiel management, and interagency agreements; (9) provides fiscal management and stewardship of grants, contracts, and cooperative agreements; (10) develops and implements administrative policies, procedures, and operations, as appropriate for program offices and divisions, and prepares special reports and studies, as required, in the administrative management areas; and (11) coordinates and manages all OSELS activities related to emergency preparedness and response activities and continuity of operations.

Office of Public Health Genomics (CPA2). The Office of Public Health Genomics (OPHG) provides leadership, policy guidance, coordination, technical expertise, and services to promote the development and implementation of the agency's genomics and public health initiatives. In carrying out this mission, OPHG: (1) Advises the CDC Director on the integration of genomics into health research and practice issues relevant to the agency; (2) assesses evolving research advances in genomics with an emphasis on their relevance to public health issues and, in cooperation with Federal and national institutions, identifies and develops activities for applying CDC's technical expertise for maximum public health benefit; (3) collaborates with CDC's CIOs, other Federal agencies, countries, and organizations, as appropriate, to assist the CIOs in the development of appropriate policy for the use of genomics within health research and practice initiatives for which they have responsibility; (4) coordinates plans for the allocation of genomics health resources and assists in the development of external funding sources for programs and projects; (5) coordinates cross-cutting CDC genomics and public health enterprises; (6) provides leadership in the development and implementation of strategic planning that extends the CDC Genomics and Disease Prevention Strategic Plan—Integrating Advances in Humannetics into Public Health Action (1997) in the development of institutional capacity; (7) coordinates collaborations with external agencies, academia, and private industry partners, including administration, budgets, and technical assistance to assure that agency obligations are met; (8) guides and coordinates activities to integrate genomics competency into national health workforce development with emphasis on recruitment and career enhancement of CDC assignees; (9) promotes a continuum of public health research for translation and application of the basic research achievements of the Human Genome Project; (10) stimulates the integration of genomic advances into disease prevention program development; and (11) provides genomics and disease prevention expertise to CIO projects, as appropriate and requested by CIOs.

Retitle the Office of Surveillance, Epidemiology, and Laboratory Services (CPG) and insert the following:

Laboratory Science Policy and Practice Program Office (CPG). The mission of the Laboratory Science, Policy, and Practice Program Office is to provide leadership, coordination and scientific direction in order to strengthen CDC's laboratory science capacity and improve public health and healthcare at the local, State, and global level.

Office of the Director (CPG1). (1) Directs and provides public health vision for laboratory science; (2) assists CDC labs in operating as `one-CDC' for lab science, research, and practice; (3) directs and coordinates the development and implementation of CDC laboratory policy; and (4) coordinates and complements programmatic lab capabilities via cross-cutting advances in lab science and practice.

Business Management Activity (CPG2). (1) Provides leadership, oversight, and guidance in the management and operations of Laboratory Science, Policy and Practice Program Office (LSPPPO) programs; (2) plans, coordinates, and provides administrative management support, advice, and guidance to LSPPPO, involving the areas of fiscal management, procurement, property management, personnel, travel, and other administrative services; (3) coordinates the development of the LSPPPO annual budget request; (4) conducts management analyses of LSPPPO programs and staff to ensure optimal utilization of resources and accomplishment of program objectives; (5) plans, allocates, and monitors LSPPPO resources; (6) maintains liaison and collaborates with other CDC components and external organizations in support of LSPPPO management and operations; (7) works closely with other Federal agencies involved with LSPPPO interagency agreements; (8) coordinates LSPPPO requirements relating to procurement, grants, cooperative agreements, materiel management, and interagency agreements; (9) provides fiscal management and stewardship of grants, contracts, and cooperative agreements; and (10) develops and implements administrative policies, procedures, and operations, as appropriate for LSPPPO, and prepares special reports and studies, as required, in the administrative management areas.

Division of Laboratory Policy and Practice (CPGB). (1) Coordinates laboratory safety, including ensuring compliance with safety regulations and requirements; (2) addresses policy and issues regarding storage and maintenance of laboratory specimens; (3) coordinates the management of CDC intellectual property and technology transfer; (4) provides coordination of laboratory space planning and management; (5) assures the provision of scientific consultation, training, and technical assistance to CDC laboratories and program staff; (6) serves as a laboratory point of contact for agencies and organizations external to CDC; and (7) coordinates laboratory training programs for external partners.

Office of the Director (CPGB1). Plans, develops, coordinates, and manages policies and/or activities that assure CDC intellectual property transfer, scientific training and technical assistance, critical external laboratory partnerships and the provision of essential laboratory services.

Division of Laboratory Science and Standards (CPGC). (1) Leads and/or participates in the development of voluntary laboratory standards and guidelines; (2) manages the HHS Clinical Laboratory Improvement Amendments (CLIA) Committee which provides scientific and technical advice and guidance to the Secretary on laboratory practice issues; (3) develops Federal quality standards for the nation's clinical laboratories; (4) collaborates with other CDC components, governmental agencies, private sector organizations and other outside groups on laboratory quality issues; and (5) provides a forum for exchange of general and timely information about laboratory practices.

Office of the Director (CPGC1). Plans, directs and manages the division activities to improve health outcomes and assure patient safety by optimizing the quality of medical laboratory practices in the United States.

Public Health Informatics and Technology Program Office (CPH). The Public Health Informatics and Technology Program Office (PHITPO) protects and improves the public's health through discovery, innovation, and service in health information technology and informatics. Informatics can be defined as the collection, classification, storage, retrieval, and dissemination of recorded knowledge. Public health informatics can be defined as the systematic application of information and computer science and technology to public health practice, research and learning. PHITPO assumes a leadership role for CDC in public health informatics and health information technology; ensures progress on CDC information resources, informatics, and health information systems and standards; facilitates cross-national center collaboration on informatics and health information projects; and advances and supports health information and informatics initiatives, systems, and activities across public health.

Office of the Director (CPH1). (1) Plans, directs, coordinates, implements, and manages activities of PHITPO; (2) develops and recommends policies and procedures relating to PHITPO informatics resources management and support services as appropriate; (3) develops vision and strategies for informatics and its application within public health both nationally and internationally; (4) assesses CDC-wide needs for informatics support; (5) collects external input on informatics and applies the knowledge gained to agency decisionmaking; (6) coordinates the establishment of CDC-wide informatics priorities, including opportunities for redirecting resources to areas of greater impact; (7) provides for the informatics response for cross-cutting urgent and emergent needs; (8) coordinates the establishment of measures of success/effectiveness of CDC informatics activities and provides guidance to CDC programs on applying these measures; (9) evaluates PHITPO services based on internal and external input; (10) coordinates the establishment and maintains internal CDC processes for decisionmaking regarding standards, guidelines, policies that have applicability throughout CDC; (11) promotes the adoption of CDC-wide standards and specifications that facilitate interoperability across sectors, provides consistency of functionality, and leads to more successful outcomes; (12) establishes relationships for public health informatics across CDC and with State and local public health organizations and other partners on informatics methods, processes, and policies; (13) optimizes the portfolio of CDC's informatics projects and systems, identifying and facilitating opportunities for cross-coordinating center/coordinating office/national center collaboration in order to leverage investments and promote efficiency and integration; (14) promotes the integration of informatics systems and approaches across CDC; and (15) collaborates and coordinates with all CDC organizations on informatics and health information technology issues and works closely with the Office of the Chief Information Officer on the interrelationships between informatics and information technology services, security, and information technology capital planning.

Business Management Activity (CPH2). (1) Provides leadership, oversight, and guidance in the management and operations of PHITPO programs; (2) plans, coordinates, and provides administrative management support, advice, and guidance to PHITPO, involving the areas of fiscal management, procurement, property management, personnel, travel, and other administrative services; (3) coordinates the development of the PHITPO annual budget request; (4) conducts management analyses of PHITPO programs and staff to ensure optimal utilization of resources and accomplishment of program objectives; (5) plans, allocates, and monitors resources; (6) maintains liaison and collaborates with other CDC components and external organizations in support of PHITPO management and operations; (7) works closely with other Federal agencies involved with PHITPO interagency agreements; (8) coordinates PHITPO requirements relating to procurement, grants, cooperative agreements, materiel management, and interagency agreements; (9) provides fiscal management and stewardship of grants, contracts, and cooperative agreements; and (10) develops and implements administrative policies, procedures, and operations, as appropriate for PHITPO, and prepares special reports and studies, as required, in the administrative management areas.

Division of Informatics Practice, Policy and Coordination (CPHB). (1) Establishes and maintains relationships for public health informatics across CDC, with partners and with other health care entities; (2) provides expertise and support to CDC staff, partners, and other health care entities on informatics methods, processes, policies, and standards; (3) promotes informatics standards and facilitates forums across CDC, sectors, and other Federal agencies to ensure efficient data exchange, interoperability of systems, and consistent implementation of methods and policy; (4) promotes the interests of public health in the development of informatics standards (working with Federal, State and local, and private sector initiatives and organizations) and initiatives (e.g., electronic health records, the Nationwide Health Information Network) to ensure the availability and utilization of expanded health data for public health purposes; (5) enhances the ability of public health officials to access and use data, information, systems, and technologies collected through traditional and non-traditional information systems, and through developing approaches to allow access while protecting privacy, confidentiality, and intellectual property rights; (6) enhances and maintains partnerships with other Federal agencies, State and local public health departments, national organizations, health plans, care networks, regional health information exchanges to meet public health informatics needs; and (7) works towards more efficient and effective public health information systems by aligning informatics solutions with health IT policies and translating emerging science, research and learning into practice.

Office of the Director (CPHB1). (1) Provides overall vision and strategic direction for the activities of the Division of Informatics Practice, Policy and Coordination (DIPPC); (2) plans, directs, coordinates, implements, and manages DIPPC operational activities; (3) provides financial oversight of DIPPC activities; (4) provides division-level oversight to assure use of scientifically sound systems initiation and operation principles for programs and projects; (5) provides division-level oversight and management of scientific clearance process; (6) assures division-level adherence to IRB, OMB, and other policy issues; (7) facilitates best practices for project management within the division; (8) provides operational oversight of project portfolio for OSELS to assure optimal resource utilization; (9) coordinates and facilitates division-level capital planning and investment control process issues; (10) evaluates, designs, and deploys, where appropriate, division-level processes, products and system for project management and system development; (11) assures the sharing of consistent, audience-appropriate, and high quality information relating to division-level activities, including Web-based, audio, video, and print-based media; (12) provides coordination of division-level activities relating to congressional inquiries and media entities; (13) facilitates division-level information sharing and relationship management activities internally to agency and externally to partners; and (14) facilitates preliminary development of project proposals by CDC and external partners.

Division of Informatics Solutions and Operations (CPHC). (1) Identifies needs and opportunities for components that can be utilized across multiple informatics solutions to ensure interoperability, integration and consistency and pursues appropriate direction for the solution (i.e., buy commercially available, re-use or build new); (2) develops, implements and maintains underlying components that enable the integration of solutions which address cross-cutting CDC or partner objectives; (3) identifies the need and opportunities for components (e.g., messaging specification, vocabulary, public health directory, secure data transfer) that could be utilized across multiple informatics solutions to ensure interoperability, integration, and consistency; (4) manages and allocates shared contractor resources (e.g., security, usability, quality assurance testing, developers, database administrators); (5) manages umbrella contracting and other common carrier mechanisms to achieve information solutions; (6) develops standards, quality assurance procedures, and guidelines for effective and efficient approaches to applications development and database management within OSELS/OD and the Program Offices; (7) fosters adoption of informatics standards; (8) provides informatics design and operational expertise and consultation services within OSELS and with appropriate external partners; (9) translates identified needs and potential solutions to public health issues into operational support of the public health programs; and (10) evaluates appropriate fit of solutions into the CDC and Federal health architecture and develop appropriate measures to ensure that all systems and operations meet agency and national guidelines.

Office of the Director (CPHC1). (1) Provides overall vision and strategic direction for Division of Informatics Solutions and Operations (DISO) activities; (2) plans, directs, coordinates, implements, and manages DISO operational activities; (3) provides financial oversight of DISO activities; (4) provides division-level oversight to assure use of scientifically sound systems initiation and operation principles for programs and projects; (5) provides division-level oversight and management of scientific clearance process; (6) assures division-level adherence to IRB, OMB, and other policy issues; (7) facilitates best practices for project management within the division; (8) provides operational oversight of project portfolio for OSELS to assure optimal resource utilization; (9) coordinates and facilitates division-level Capital Planning and Investment Control process issues; (10) evaluates, designs, and deploys, where appropriate, division-level processes, products and system for project management and system development; (11) assures the sharing of consistent, audience-appropriate, and high quality information relating to division-level activities, including Web-based, audio, video, and print-based media; (12) provides coordination of division-level activities relating to congressional inquiries and media entities; (13) facilitates division-level information sharing and relationship management activities internally to agency and externally to partners; and (14) facilitates preliminary development of project proposals by CDC and external partners.

Division of Informatics Research and Development (CPHD). The Division of Informatics Research and Development (DIRD) advances the field of public health informatics through applied research and innovation. This division will collaborate with members of CDC programs as well as the broader public health community to develop innovative technologies and techniques to positively impact public health practice in the short- and long-term timeframes. Once demonstrated to be of value, new informatics solutions or techniques will be transitioned to the appropriate public health program for formal deployment and implementation. In carrying out this mission, the division: (1) Provides PHITPO, OSELS, CDC, and its external research and public health partners, consultation, guidance, support, and insight into the use of new informatics solutions for public health practice; (2) leverages its resources to rapidly create and validate hypotheses generated by PHITPO, OSELS, CDC, and its external research and public health partners; and (3) provides PHITPO, OSELS and CDC an optimal (i.e., flexible and scalable) environment for the rapid development of prototype public health informatics solutions for testing and evaluation purposes.

Office of the Director (CPHD1). (1) Provides overall vision and strategic direction of DIRD activities; (2) plans, directs, coordinates, implements, and manages DIRD operational activities; (3) provides financial oversight of DIRD activities; (4) provides division-level oversight to assure use of scientifically sound evaluation and research principles for programs and projects; (5) provides division-level oversight and management of scientific clearance process; (6) assures division-level adherence to IRB, OMB, data release and data sharing issues, as well as peer review issues; (7) facilitates best practices for project management within the division; (8) provides oversight of project portfolio in the Informatics Research and Development Laboratory to assure optimal resource utilization; (9) coordinates and facilitates division-level capital planning and investment control process issues; (10) evaluates, designs, and deploys, where appropriate, division-level processes, products and system for project management and system development; (11) assures the sharing of consistent, audience-appropriate, and high quality information relating to division-level activities, including Web-based, audio, video, and print-based media; (12) provides coordination of division-level activities relating to congressional inquiries and media entities; (13) facilitates division-level information sharing and relationship management activities internally to agency and externally to partners; (14) facilitates preliminary development of project proposals by CDC and external partners; and (15) manages project proposal portfolio and provides regular updates to DIRD leadership.

Public Health Surveillance Program Office (CPJ). The Public Health Surveillance Program Office (PHSPO) manages national public health surveillance systems which have cross-cutting utility for multiple CDC programs, develops new surveillance methods and information resources, and coordinates efforts to improve the efficiency and effectiveness of surveillance systems in public health practice. These activities are conducted in collaboration with others at CDC and with CDC partners.

Office of the Director (CPJ1). (1) Leads the development of policy, long-range plans, and programs of the PHSPO; (2) develops contracts, cooperative agreements, and grants supporting OSELS; (3) serves as the focus for the coordination of surveillance science and programs across CDC; (4) oversees the operation and enhancement of cross cutting surveillance systems maintained by PHSPO divisions; (5) plans, directs, enhances and collaboratively supports national surveillance programs and technology initiatives, including the use of electronic health records, improving the nation's capability to monitor disease and provide public health situational awareness; and provides technical assistance and technology transfer to State and local health departments and other public health constituents in support of public health programs; (6) develops strategy and planning, and provides leadership and guidance on strategic planning, policy, program and project priority planning and setting, program management and operations; (7) facilitates coordination of surveillance activities across local, State, Federal jurisdictions/agencies, including surveillance programs that are part of public health emergency preparedness and response programs through the Biosurveillance Coordination Unit; facilitates and enhances development of surveillance systems based on use of information from electronic health records/electronic medical records and State and local health department surveillance; (8) supports public health linkages with health information exchanges and collaborates with OSELS informatics development projects to assure effective links to public health practice (e.g., Health Information Exchange projects, Centers of Excellence in Public Health Informatics); (9) sponsors key programs related to the goals of the PHSPO; (10) provides leadership to OSELS, CDC, and other organizations about best practices for surveillance based on research and scientific evidence; (11) conducts applied scientific research and evaluations related to the development and operation of surveillance systems; (12) promotes a multidisciplinary approach (epidemiology, statistics, informatics, program evaluation, economic, qualitative, etc.) to assure that CDC surveillance systems serve public health program objectives; and (13) supports the development of surveillance tools to track the public health impact of healthcare reforms.

Business Management Activity (CPJ12). (1) Provides leadership, oversight, and guidance in the management and operations of PHSPO programs; (2) plans, coordinates, and provides administrative management support, advice, and guidance to PHSPO Program Office, involving the areas of fiscal management, procurement, property management, personnel, travel, and other administrative services; (3) coordinates the development of the PHSPO annual budget request; (4) conducts management analyses of PHSPO programs and staff to ensure optimal utilization of resources and accomplishment of program objectives; (5) plans, allocates, and monitors PHSPO resources; (6) maintains alliances and collaborates with other CDC components and external organizations in support of PHSPO management and operations; (7) works closely with other Federal agencies involved with PHSPO interagency agreements; (8) coordinates PHSPO requirements relating to procurement, grants, cooperative agreements, materiel management, and interagency agreements; (9) provides fiscal management and stewardship of grants, contracts, and cooperative agreements; (10) develops and implements administrative policies, procedures, and operations, as appropriate for PHSPO; and (11) prepares special reports and studies, as required, in the administrative management areas.

Partnerships and Planning Activity (CPJ13). (1) Establishes and maintains relationships across CDC and with CDC partners, including State, local, territorial, and Tribal public health agencies (and the organizations that represent public health officials), other Federal agencies, the healthcare sector, professional organizations, and other constituents that inform the direction and management of PHSPO programs; (2) links PHSPO experts to CDC staff and partners to support surveillance practice and development; (3) promotes and disseminates information regarding best practices for surveillance methods, processes, policies, and standards; (4) promotes initiatives that advance the science and practice of surveillance, including strengthening the interface between public health and health care systems, e.g. the National Health Information Network and the Public Health Information Network; (5) enhances and maintains partnerships with other Federal agencies, State and local public health departments, national organizations, health plans, care networks, and regional health information networks to meet public health informatics needs; (6) promotes a coordinated approach to surveillance science across CDC; (7) provides oversight for a Federal advisory committee, including representatives from State, local, CDC and other Federal government public health authorities and appropriate private sector healthcare entities to ensure that the Federal government is enhancing State and local government public health surveillance capability; and (8) provides advice and guidance to CDC programs to advance the science of public health surveillance and to promote effective use of surveillance information in meeting CDC's mission.

Biosurveillance Coordination Activity (CPJ14). (1) Enhances the nation's biosurveillance capability by leading the development of a national biosurveillance strategy for human health which establishes priorities for the nation's next-generation biosurveillance capability and provides timely, comprehensive, and accessible information to strengthen public health practice, provides value to clinicians, and builds upon current systems and resources; (2) establishes and maintains relationships across CDC and with external partners in other Federal agencies, State, local, Tribal, territorial, international surveillance organizations, and health care organizations and practitioners, to inform the direction and management of the biosurveillance enterprise; (3) links subject matter experts to efforts to support biosurveillance practice and development; (4) provides leadership for and outreach to biosurveillance stakeholders external to CDC; (5) provides oversight or manages Federal advisory committees/subcommittees, including representatives from State and local government public health authorities, public and private biosurveillance stakeholders, and appropriate private sector health care entities; (6) establishes and maintains national registry of biosurveillance systems, programs, collaboratives, registries, and tools; and (7) provides advice and guidance to CDC programs in order to advance the science of biosurveillance and promote effective use of biosurveillance information in meeting CDC's mission.

Division of Healthcare Information (CPJB). (1) Facilitates and advances the integration of informatics, epidemiologic, and statistical methods in developing the use of automated healthcare information systems in public health surveillance; (2) promotes the objective that public health program goals guide the development of new surveillance methods and the operation of national surveillance systems managed by the Division of Healthcare Information (DHI); (3) establishes division goals, objectives, and priorities; (4) reports surveillance information to inform public health interventions; (5) monitors progress in implementation of projects and achievement of objectives; (6) plans, allocates, and monitors resources; (7) provides management administrative and support services, and coordinates with the OSELS on program and administrative matters; (8) interacts with other CDC organizations, other governmental agencies, private organizations, and other outside groups in developing and promoting the use of automated healthcare information systems for surveillance purposes; (9) provides scientific leadership and guidance to the division to assure highest scientific quality and professional standards; (10) facilitates the development of a distributed network of networks to connect public health at the local, State and regional level through health departments and health information exchanges, and facilitate the simultaneous sharing of real-time data, information and knowledge exchange; (11) promotes the integration of public health data and standards, as well as approaches to disseminate and access such data; (12) identifies and evaluates automated data sources (healthcare, administrative, others) that can be developed for use in public health surveillance across a spectrum of public health programs; (13) develops and applies analytic methods to detect and characterize unusual trends in surveillance data that may herald the emergence of public health threats; (14) applies informatics tools to the development of new surveillance information resources, and promotes efforts to assure that the development of informatics tools is informed by experience from surveillance practice; (15) develops and manages surveillance applications and related analytic activities; (16) supports the development and use of automated surveillance systems by State, local, territorial, or Tribal public health agencies and the national aggregation of data from these systems for regional and national surveillance purposes; (17) supports and conducts research and evaluation projects that improve the ability of public health practitioners to use automated healthcare information for surveillance; and (18) manages and promotes development of surveillance systems that support public health emergency preparedness and response functions, such as event detection, characterization, and monitoring (e.g., situational awareness).

Office of the Director (CPJB1). (1) Provides overall vision and strategic direction for the activities of DHI; (2) plans, directs, coordinates, implements, and manages DHI operational activities; and (3) provides financial oversight of DHI activities.

Division of Notifiable Disease Surveillance (CPJC). (1) Provides leadership to OSELS, CDC, and other organizations to promote and support effective public health surveillance for notifiable diseases and conditions; (2) promotes the application of epidemiologic, statistical, and informatics methods in these surveillance systems from local to State to Federal/CDC levels; (3) establishes division goals, objectives, and priorities; (4) monitors progress in implementation of projects and achievement of objectives; (5) plans, allocates, and monitors resources; (6) provides liaison with other CDC organizations, other governmental agencies, private organizations, and other outside groups; (7) provides scientific leadership and guidance to the division to assure highest scientific quality and professional standards; (8) promotes the coordination, evaluation and integration of public health surveillance and informatics systems across CDC and public health; (9) develops pilot projects to test the feasibility of implementing new statistical or informatics tools to support notifiable disease surveillance; (10) promotes the integrated collection and implementation of public health monitoring data; (11) collaborates with local, State, and national public health entities to develop an efficient, effective, interoperable public health monitoring system; and (12) assures that data are available on a timely basis and in readily useable formats to epidemiologists in CDC programs responsible for the prevention and control of specific notifiable diseases.

Office of the Director (CPJCJ). (1) Provides overall vision and strategic direction for the activities of the Division of Notifiable Disease Surveillance (DNDS); (2) plans, directs, coordinates, implements, and manages DNDS operational activities; and (3) provides financial oversight of DNDS activities.

Division of Behavioral Surveillance (CPJD). (1) Directs, plans and coordinates all activities related to the Behavior Risk Factor Surveillance System (BRFSS), a nationwide program for State-specific surveillance, which main focus is on chronic conditions and risk behaviors; (2) facilitates coordination of BRFSS surveillance activities across all States and CDC programs; (3) provides support to build State capacity for BRFSS survey operations and data management, and for the analysis, dissemination, and use of the data by State agencies and universities to set public health priorities and monitor public health programs; (4) develops guidelines and criteria for the enhancement of behavioral risk factors at State level including managing and supporting cross cutting research in BRFSS methodology; (5) delivers credible information to CDC scientists, public health community and the general public by delivering timely data of high degree of validity and reliability; (6) supports and enhances analysis and dissemination of information from the BRFSS to promote the broad use and application of BRFSS results and findings by policy and decision makers, public health professionals, and other relevant audiences through communication channels and formats appropriate to these constituencies; (7) plans and coordinates cross cutting research related to survey methodology; (8) provides scientific leadership and guidance to surveillance programs to assure highest scientific quality and professional standards related to BRFSS; (9) provides leadership to CDC and other organizations to promote and support effective and flexible public health surveillance for chronic conditions including any emerging public health issue; (10) builds and manages mental health surveys and provides support to build State capacity for use of mental health data and set mental health priorities; and (11) provides administrative and management support, as required, for States and territories including oversight of grants, cooperative agreements, and reimbursable agreements.

Office of the Director (CPJD1). (1) Provides overall vision and strategic direction for the activities of the Division of Behavioral Surveillance (DBS); (2) plans, directs, coordinates, implements, and manages DBS operational activities; and (3) provides financial oversight of DBS activities.

Epidemiology and Analysis Program Office (CPK). The Epidemiology and Analysis Program Office (EAPO) supports the targeted application of public health sciences to improve population health through research, consultation, practice, training, education, technical assistance, development and dissemination of scientific and public health information.

Office of the Director (CPK1). (1) Provides leadership and overall direction for EAPO; (2) provides leadership and guidance on policy, program planning, program management, and operations; (3) establishes EAPO goals, objectives and priorities and assures alignment with CDC's overall goals, objectives and priorities; (4) monitors progress in implementation of projects and achievement of EAPO objectives; (5) provides management, administrative, support services, and coordinates with appropriate offices on program and administrative matters; (6) provides liaison with and represents CDC to other governmental agencies, national and international organizations, including healthcare and healthcare provider organizations, academic and research organizations, public health officials and components at local, State, national and international levels, and constituent organizations such as the Council of State and Territorial Epidemiologists; (7) provides leadership and overall direction for the planning, development and dissemination of the Morbidity and Mortality Weekly Report (MMWR), related publications, and various scientific and health communication documents and special reports; (8) promotes state-of-the-art innovation in core public health sciences; (9) provides analytic support to CDC and OSELS activities in monitoring effectiveness of health care services in improving population health; and (10) participates in the development and coordinates the dissemination of new and innovative analytic methods and an approach to the use of epidemiologic, biostatistical and other core public health sciences within CDC.

Business Management Activity (CPK12). (1) Provides leadership, oversight, and guidance in the management and operations of EAPO; (2) plans, coordinates, and provides administrative management support, advice, and guidance to EAPO, involving the areas of fiscal management, procurement, property management, personnel, travel, and other administrative services; (3) coordinates the development of EAPO annual budget request; (4) conducts management analyses of EAPO programs and staff to ensure optimal utilization of resources and accomplishment of program objectives; (5) plans, allocates, and monitors EAPO resources; (6) maintains liaison and collaborates with other CDC components and external organizations in support of EAPO management and operations; (7) works closely with other Federal agencies involved with EAPO interagency agreements; (8) coordinates EAPO requirements relating to procurement, grants, cooperative agreements, materiel management, and interagency agreements; (9) provides fiscal management and stewardship of grants, contracts, and cooperative agreements; and (10) develops and implements administrative policies, procedures, and operations, as appropriate for EAPO, and prepares special reports and studies, as required, in the administrative management areas.

Morbidity and Mortality Weekly Report Activity (CPK13). (1) Manages the MMWR series of publications including the MMWR Recommendations and Reports, CDC Surveillance Summaries, and Annual Summary of Notifiable Diseases; and (2) develops, plans, coordinates, edits, and produces the MMWR series, including the MMWR Recommendations and Reports, CDC Surveillance Summaries, and Annual Summary of Notifiable Diseases.

Division of Epidemiology and Analytic Methods (CPKB). (1) Develops and disseminates innovative methods for the collection, analysis and communication of public health surveillance information (e.g., National Electronic Telecommunications System for Surveillance; (2) supports the Deputy Director for Surveillance, Epidemiology and Laboratory Services and CDC's Office of the Director through the development of translational research to convert and translate scientific findings into practical programs, policies, techniques and materials to support public health practice; (3) expands the scope of epidemiological analytic capabilities and public health science through practice and research, and responds to crosscutting requests for analysis; (4) provides a quick-response analytics and data synthesis capability within CDC; (5) conducts and supports preparedness modeling activities; (6) supports the development and dissemination of analytic methods, including but not limited to epidemiology, prevention effectiveness, geospatial methods and GIS, and an approach to the use of statistical sciences within CDC; (6) develops and analyzes policy oriented quantitative modeling for CDC, HHS and Federal interagency and State and local public health departments; and (7) provides a nexus for health-related and engineering sciences focusing on computer simulation and complex systems modeling from a public health research and practice perspective.

Division of Community Preventive Services (CPKC). (1) Provides support for CDC-wide application of public health sciences (epidemiology, health economics, social sciences, syndemics, geospatial mapping, etc.) to improve population health through research, consultation, practice and technical assistance; (2) provides leadership and overall direction for the planning, development, scientific content and dissemination of the Guide to Community Preventive Services and overall management of the Task Force for Community Preventive Services; (3) promotes state-of-the-art innovation in core public health sciences; (4) provides analytic support to CDC and OSELS activities in monitoring effectiveness of health care services in improving population health; (5) analyzes, and monitors community health indicators and health rankings at the State and local levels to ensure the data is used effectively e.g., (Mobilizing Action toward Community Health (MATCH) program); and (6) provides support for the appropriate use of measures of social determinants of health.

Division of Library Sciences and Services (CPKD). (1) Collaborates with other CIOs in planning and developing computer software for use in epidemiology and other core public health sciences; (2) delivers credible, timely information from scientific and health literature to CDC scientists, the public health community, and the general public by delivering reference services and access to published resources, evaluating, acquiring, organizing and making available knowledge resources, and providing training and consultation in use of science and health literature; (3) identifies the need and opportunities for components (e.g. messaging specification, vocabulary, public health directory, secure data transfer) that could be utilized across multiple informatics solutions to ensure interoperability, integration, and consistency; (4) provides library operations (Library Services Most Efficient Organization [MIEO]); (5) provides information, reference, and research services; (5) deploys the Outbreak Management System (OMS) suite of applications in a multitude of scenarios; and (6) continues to redevelop and improve Epi Info to feature software enhancements.

Scientific Education and Professional Development Program Office (CPL). (1) Plans, directs and manages programs that develop the future public health workforce: (2) provides leadership in scientific approaches to education of the workforce, including quality assurance, technical consultation and evaluation of scientific workforce development and education.

Office of the Director (CPL1). (1) Provides leadership and overall direction for the Scientific Education and Professional Development Program Office (SEPDPO); (2) develops goals and objectives, and provides leadership, policy formation, scientific oversight, and guidance in scientific education and professional development program planning and development; (3) plans, coordinates, and develops research plans for SEPDPO; (4) ensures adherence and provides training to SEPDPO on CDC and HHS science-related policies; (5) oversees and manages SEPDPO clearance process for scientific, technical, and programmatic documents; (6) coordinates all SEPDPO program reviews; (7) reviews, prepares, coordinates, and develops proposed legislation, Congressional testimony, and briefing materials; (8) assists SEPDPO programs in establishing performance metrics and coordinates quarterly reviews with programs to ascertain status on meeting of the metrics; (9) coordinates SEPDPO budget formulation/negotiation related to program initiatives and goals management; (10) identifies relevant scarnning/benchmarking on scientific education and professional development processes, services, and products; (11) provides leadership and guidance on new developments and national trends for public health workforce education and training; (12) establishes policies and standards for public health education and training activities/initiatives, including but not limited to, competency development, quality assurance, and evaluation, and works collaboratively within SEPDPO and other components of CDC to ensure their implementation and adoption; (13) manages pilot fellowship programs in early stages of development, as needed; (14) develops and manages unified SEPDPO-wide administrative systems and advocates and supports the commitment of resources to application development; (15) coordinates management information systems, including the Fellowship Management System, and analyses of data for improved utilization of SEPDPO resources; and (16) directs systems analysis and design, programming, and systems training as it relates to implementation of new and existing administrative, management, and executive information systems.

Business Management Activity (CPL12). (1) Provides leadership, oversight, and guidance in the management and operations of SEPDPO programs; (2) plans, coordinates, and provides administrative management support, advice, and guidance to SEPDPO involving the areas of fiscal management, procurement, property management, personnel, travel, and other administrative services; (3) coordinates the development of the SEPDPO annual budget request; (4) conducts management analyses of SEPDPO programs and staff to ensure optimal utilization of resources and accomplishment of program objectives; (5) plans, allocates, and monitors SEPDPO resources; (6) maintains liaison and collaborates with other CDC components and external organizations in support of SEPDPO management and operations; (7) works closely with other Federal agencies involved with SEPDPO interagency agreements; (8) coordinates SEPDPO requirements relating to procurement, grants, cooperative agreements, materiel management, and interagency agreements; (9) provides fiscal management and stewardship of grants, contracts, and cooperative agreements; and (10) develops and implements administrative policies, procedures, and operations, as appropriate for SEPDPO, and prepares special reports and studies, as required, in the administrative management areas.

Educational Standards and Evaluation Activity (CPL13). (1) Develops educational research agenda and conducts educational research to identify best practices and methods for developing the public health workforce; (2) develops evidence-based policies and standards for public health education and training activities/initiatives, including but not limited to, competency development, quality assurance, and evaluation, and provides technical assistance within SEPDPO and other components of CDC to ensure their implementation and adoption; (3) develops and implements a crosscutting framework for planning and evaluating fellowship training programs that is responsive to the needs of CDC's internal workforce and to the needs of SEPDPO's external partners; (4) develops and maintains appropriate liaisons with all fellowship programs in SEPDPO, and provides technical assistance to other programs across the agency to ensure the development of rigorous educational programs based on the science of adult learning and educational psychology; (5) facilitates a cross-cutting approach and sharing of educational/evaluation lessons learned and tools across SEPDPO programs, as well as other programs across the agency; and (6) provides leadership in planning and implementation of the educational component of the complex, integrated Fellowship Management System to ensure data requirements are consistent with the evaluation framework, to capture educational outcomes of fellowships.

Academic Linkages Activity (CPL14). (1) Fosters closer linkages between academia and public health practice; (2) provides technical consultation to academic institutions regarding improvement of their experiential learning opportunities; (3) supports and provides oversight for cooperative agreements with academic partner organizations (e.g., Association of Schools of Public Health, Association of American Medical Colleges, Association for Prevention Teaching and Research) to enhance development of public health and health professionals skilled in improving the health of populations; (4) works with partners in academia, State and local health agencies, public health and health professional organizations to address public health educational needs, including developing population health competencies for academia, participating on accreditation boards and providing case study content to improve the inclusion of population health competencies in health professional education (e.g., medical schools, schools of nursing, schools of public health); and (5) supports translation of lessons learned among academic institutions, e.g., through toolkits or workshops.

Division of Applied Sciences (CPLB). (1) Plans, directs, and manages CDC-wide training and service programs for teaching and training public health professionals in applied epidemiology and other public health sciences including preventive medicine, public health informatics, and prevention effectiveness; (2) responds to domestic and international requests for assistance and consultation (e.g., EPI-AIDS, InfoAids); (3) works with partner agencies to articulate and build curricula for public health workforce competencies in applied sciences; (4) maintains liaison with other governmental agencies, academic institutions and organizations, State and local health agencies, private health organizations, professional organizations, and other outside groups; (5) assumes an active national and international leadership role in applied epidemiology and other public health sciences training; and (6) collaborates, as appropriate, with the CDC OD, other CIOs, and domestic and international agencies to carry out the functions of the division.

Office of the Director (CPLB1). (1) Provides leadership, direction, coordination, and management oversight to the activities of the division; (2) develops long-range plans, sets annual objectives, monitors progress, and evaluates results; (3) sets policies and procedures; (4) plans, allocates, and monitors resources; (5) coordinates with SEPDPO/OD, the Atlanta Human Resources Center (AHRC), the Procurement and Grants Office (PGO), and the Financial Management Office (FMO) on administrative guidance and oversight in the areas of personnel, procurement, budget, travel, and other administrative services; and (6) coordinates collaborative activities of the division and maintains liaison with other CIOs, other Federal agencies, and other outside groups.

Division of Leadership and Practice (CPLC). (1) Plans, directs, and manages CDC-wide training and service programs for the teaching and training of public health professionals in public health practice, including public health leadership and management, public policy, program planning, implementation, and evaluation; (2) plans, directs, and manages CDC-wide training and service programs for fellowships and internships sponsored by other partner organizations and implemented within CDC (e.g., Emerging Leaders Program, Presidential Management Fellowship, and Association of Schools of Public Health Fellowship); (3) leads content development and implementation of workforce development programs intended to increase the number of individuals choosing public health careers; (4) responds to domestic and international requests for assistance and consultation (Emergency Operations Center deployment); (5) works with partner agencies to articulate and build curricula for public health workforce competencies in leadership and management; (6) maintains liaison with other governmental agencies, academic institutions and organizations, State and local health agencies, private health organizations, professional organizations, and other outside groups; (7) provides technical assistance, consultation, resources and training for SEPDPO, other CDC fellowships, and the broader health workforce, including, but not limited to the development and dissemination of standard curricula, training, and related materials, in leadership and management; and (8) collaborates, as appropriate, with the CDC OD, other CIOs, and domestic and international agencies to carry out the functions of the division.

Office of the Director (CPLC1). (1) Provides leadership, direction, coordination, and management oversight to the activities of the division; (2) develops long-range plans, sets annual objectives, monitors progress, and evaluates results; (3) sets policies and procedures; (4) plans, allocates, and monitors resources; (5) coordinates with SEPDPO/OD, AHRC, PGO, and FMO on administrative guidance and oversight in the areas of personnel, budget, procurement, travel, and other administrative services; and (6) coordinates collaborative activities of the division and maintains liaison with other CIOs, other Federal agencies, and other outside groups.

Division of Training Development and Services (CPLD). (1) Evaluates the efficiency and effectiveness of education and training products, development of training tools and implementation methods and evaluate the impact of education/training on the quality of laboratory practice; (2) incorporates principles of adult learning theory and current learning standards into the design, delivery, and evaluation of education and training products; (3) maintains knowledge of continuing education standards to uphold national accreditations and provides guidance and consultation, incorporating principles of adult learning theory with course developers to ensure educational activities are accredited for continuing education; (4) develops and conducts training to facilitate the timely transfer of emerging laboratory technology and standards for laboratory practice; (5) provides technical assistance, consultation, and laboratory training to improve the capacity and capability of public health organizations; (6) develops and maintains decentralized training networks for the nation's laboratory professionals; (7) fosters communications to assist regional, State, and local health agencies in the identification and utilization of laboratory resources in support of the nations health objectives; and (8) develops and maintains appropriate internal and external partnerships to foster best practices in the design and delivery of educational activities and training.

Office of the Director (CPLD1). (1) Provides leadership, direction, coordination, and management oversight to the activities of the division; (2) develops long-range plans, sets annual objectives, monitors progress, and evaluates results; (3) sets policies and procedures; (4) plans, allocates, and monitors resources; (5) coordinates with SEPDPO/OD, AHRC, PGO, and FMO on administrative guidance and oversight in the areas of personnel, budget, procurement, travel, and other administrative services; and (6) coordinates collaborative activities of the division and maintains liaison with other CIOs, other Federal agencies, and other outside groups.

Delete in its entirety item (1) of the functional statement for the Personnel Suitability and Select Agent Compliance Branch (CAJJC), within the Office of Security and Emergency Preparedness (CAJJ), and renumber the remaining items accordingly. Delete in its entirety the title and functional statement for the Office of Public Health Genomics (CUC19), within the Office of the Director (CUC1), National Center for Chronic Disease Prevention and Health Promotion (CUC).

Delete in its entirety the title and functional statement for the Behavioral Surveillance Branch (CUCEB), within the Division of Adult and Community Health (CUCE), National Center for Chronic Disease Prevention and Health Promotion (CUC).

Delete in its entirety the titles and functional statements for the Office of Workforce and Career Development (CAL), within the Office of the Director (CA), Centers for Disease Control and Prevention (C).

Dated: July 20, 2010.
William P. Nichol,
Chief Operating Officer, Centers for Disease Control and Prevention.

[FR Doc. 2010-18728 Filed 7-30-10; 8:45 am]

BILLING CODE 4160-18-M